GENERAL SERVICES ADMINISTRATION

41 CFR Part 101-35

RIN 3090-AG03

Relocation of FIRMR Provisions Relating to the Use of Government Telephone Systems and GSA Services and Assistance

AGENCY: Office of Governmentwide Policy, GSA.

ACTION: Interim rule; extension of expiration date.

SUMMARY: The General Services Administration (GSA) is extending Federal Property Management Regulations provisions regarding management and use of telecommunications resources.

DATES: Effective Date: The interim rule published at 61 FR 41003 was effective August 8, 1996.

Expiration Date: The expiration date of the interim rule published at 61 FR 41003 is extended through August 8, 2001.

FOR FURTHER INFORMATION CONTACT: R. Stewart Randall, Jr., Office of Governmentwide Policy, telephone 202-501-4469.

SUPPLEMENTARY INFORMATION: FPMR interim rule F-1 was published in the Federal Register on August 7, 1996, 61 FR 41003. The expiration of the interim rule was August 8, 1998. A supplement published in the Federal Register on May 20, 1998, 63 FR 27682, extended the expiration date through August 8, 1999. A supplement published in the Federal Register on July 19, 1999, 64 FR 38588, extended the expiration date through August 8, 2000. This supplement further extends the expiration date through August 8, 2001.

List of Subjects in 41 CFR Part 101-35

Archives and records, Computer technology, Telecommunications, Government procurement, Property management, Records management, and Federal information processing resources activities.

PART 101-35—[AMENDED]

Therefore the expiration date for interim rule F-1 adding 41 CFR part 101-35 published at 61 CFR 41003, August 7, 1996, and extended until August 8, 2000 at 64 FR 38588, is further extended through August 8, 2001.

Dated: August 2, 2000.
David J. Barram,
Administrator of General Services.

[FR Doc. 00-20090 Filed 8-7-00; 8:45 am]

BILLING CODE 6820-34-P